DEPARTMENT OF HOMELAND SECURITY

Coast Guard

[USCG-2003-16711]

Cooperative Research and Development Agreements

AGENCY: Coast Guard, DHS.

ACTION: Notice of intent.

SUMMARY: The Coast Guard announces its intent to enter into a Cooperative Research and Development Agreement (CRADA) and seeks inquiries and proposals from potential participants. The goal of this CRADA will be the development of a display tool for the Coast Guard's use in visualizing its future “world of work.”

DATES: Preliminary inquiries must be received by February 17, 2004. The deadline for receiving proposals is March 8, 2004.

ADDRESSES: Inquiries and proposals from potential participants must be sent to Bert Macesker, Risk Technologies Program Area Manager, U.S. Coast Guard Research & Development Center, 1082 Shennecossett Road, Groton, CT 06340 (e-mail: bmacesker@rdc.uscg.mil).

The general public can comment on this notice or on the Coast Guard's CRADA procedures. These comments will be docketed in the Docket Management System (DMS). Include the docket number (USCG-2003-16711) of this notice, and submit it using the DMS Web site (http://dms.dot.gov) or the Federal eRulemaking Portal (http://www.regulations.gov). You can also fax comments to 202-493-2251 or mail or hand-deliver them to: Docket Management Facility, U.S. Department of Transportation, 400 Seventh Street SW., Washington, DC 20590-0001.

FOR FURTHER INFORMATION CONTACT: If you have questions on this notice or the proposed CRADA, contact Bert Macesker, Risk Technologies Program Area Manager, U.S. Coast Guard Research & Development Center, 1082 Shennecossett Road, Groton, CT 06340, telephone (860) 441-2726, e-mail: bmacesker@rdc.uscg.mil. If you have questions on viewing or submitting material to the docket, call Andrea M. Jenkins, Program Manager, Docket Operations, telephone 202-366-0271.

SUPPLEMENTARY INFORMATION:

Cooperative Research and Development Agreements

Cooperative Research and Development Agreements, or CRADAs, are authorized by the Federal Technology Transfer Act of 1986 (Pub. L. 99-502, codified at 15 U.S.C. 3710a). A CRADA promotes the transfer of technology to the private sector for commercial use as well as specified research or development efforts that are consistent with the mission of the Federal parties to the CRADA. The Federal party or parties agree with one or more non-Federal parties to share research resources (but the Federal party does not contribute funding). The Department of Homeland Security (DHS), as an executive agency under 5 U.S.C. 105, is a Federal agency for purposes of 15 U.S.C. 3710a and may enter into a CRADA. DHS delegated its authority to the Commandant of the Coast Guard (see DHS Delegation No. 0160) and the Commandant has delegated his authority to the Coast Guard Research and Development Center.

Goal of Proposed CRADA

Under the proposed agreement, the Coast Guard's Research & Development Center (RDC) plans to collaborate with industry. Together, the RDC and its CRADA participant(s) will examine how the U.S. Coast Guard (USCG) can visualize its “world of work” in the future.

At the unit level, “world of work” implies a complete picture of the Commanding Officer's (CO's) area of responsibility and beyond. This complete picture includes a display (or displays) that offers personalized views of maritime risks and USCG readiness. The CO needs this information to decide how to reduce risks to the public and the costs to manage those risks. As an example, the CO wants to answer the question: How do we best balance USCG activities and resources against risk on any given day?

At the Commandant level, “world of work” looks across multiple units and at specific programs throughout the USCG. For example, the Commandant wants to answer the question: How much do our activities reduce risks?

The tool will provide information for risk-based decision making in a future environment. The information will assist USCG personnel in making both short-term operational decisions and longer-term strategic decisions.

The RDC, with its CRADA participant(s), will create a structured and collaborative environment to advance concepts and technologies for a display tool. The desired products of the proposed collaboration are a shared vision and an operationally relevant situation display tool. We currently envision the display tool as a two-dimensional, geographic display of maritime system risks and organizational readiness. Desirable display concepts include the ability to (1) integrate into the common operating picture of the future and (2) support a systematic approach to allocating USCG resources based on risk.

Party Contributions

We anticipate that the Coast Guard's contributions under the proposed CRADA will include:

(1) A structured opportunity to receive pertinent real world Integrated Maritime Command Center (IMCC) data, including the opportunity to establish real-time internet protocol (IP) data connections for access to IMCC-Miami data, to test and demonstrate CRADA products;

(2) Access to a Miami Area of Responsibility (AOR) risk profile, readiness, and response activity data;

(3) Feedback from USCG staff who are working in risk, readiness, and activity resource management modeling; and

(4) Feedback from USCG staff who are involved in defining IMCC situation display requirements.

We anticipate that the non-Federal parties' contributions under the proposed CRADA will include:

(1) Making the real-time, IP data connections to relevant data source locations;

(2) Qualified personnel and procedures (certified by the appropriate authority) for the proper handling of all data provided by the USCG, other federal, state, local, law enforcement, and private organizations under this CRADA;

(3) At least two “innovative, alternative IMCC-Miami Situation Displays” provided to the USCG via real-time, IP data connections, which meet all USCG-specified requirements (including security requirements); and

(4) Periodic updates of the design/layout of these “innovative alternative” IMCC-Miami Situation Displays based upon insights gained during the CRADA research.

Selection Criteria

The Coast Guard reserves the right to select for CRADA partners all, some, or none of the proposals in response to this notice. The Coast Guard will provide no funding for reimbursement of proposal development costs. Proposals (or any other material) submitted in response to this notice will not be returned. Proposals submitted are expected to be unclassified and have no more than 4 single-sided pages (excluding cover page and resumes). The Coast Guard will select proposals at its sole discretion on the basis of:

(1) How well they communicate an understanding of, and ability to meet, the proposed CRADA's goal; and

(2) How well they address the following criteria:

(a) Technical capability to support the non-Federal party contributions described;

(b) Resources available for supporting the non-Federal party contributions described; and

(c) Technical expertise/understanding of Maritime Domain Awareness, maritime common operational picture, USCG port operations, and industry best practices in situational display technologies.

This is a technology transfer/development effort. So far, the Coast Guard has no forecast to procure the technology. Proposals should clearly discuss how the concepts and technologies, e.g., for two-dimensional, GIS-based display of maritime system risks and organizational readiness, could improve existing USCG capabilities and aid the USCG in visualizing its future “world of work.”

Special consideration will be given to small business firms/consortia, and preference will be given to business units located in the U.S. which agree that products embodying inventions made under the CRADA or produced through the use of such inventions will be manufactured substantially in the U.S.

Dated: January 29, 2004.
F.A. Dutch,
Capt USCG, Commanding Officer, R&D Center.

[FR Doc. 04-2510 Filed 2-4-04; 8:45 am]

BILLING CODE 4910-15-P